DEPARTMENT OF LABOR

Employment and Training Administration

[TA-W-56,114]

Bourns Microelectronics Modules, Inc. Formerly Known as Microelectronics Modules Corporation a Susidiary of Bourns Inc., New Berlin, Wisconsin; Notice of Termination of Investigation

Pursuant to section 221 of the Trade Act of 1974, as amended, an investigation was initiated on December 1, 2004 in response to a petition filed on behalf of workers at Bourns Microelectronic Modules Inc., formerly known as Microelectronics Modules Corporation, a subsidiary of Bourns Inc., New Berlin, Wisconsin.

The petitioning group of workers is covered by an earlier petition (TA-W-42,217) which expired on December 6, 2004. Since the firm has ceased production and all workers were covered under that certification, there is no basis for issuing a new certification. Consequently, further investigation in this case would serve no purpose, and the investigation has been terminated.

Signed at Washington, DC this 27th day of December 2004.
Elliott S. Kushner,
Certifying Officer, Division of Trade Adjustment Assistance.

[FR Doc. E5-263 Filed 1-25-05; 8:45 am]

BILLING CODE 4510-30-P